COMMISSION ON CIVIL RIGHTS

Notice of Public Meeting of the Tennessee Advisory Committee

AGENCY: U.S. Commission on Civil Rights.

ACTION: Notice of meeting.

SUMMARY: Notice is hereby given, pursuant to the provisions of the rules and regulations of the U.S. Commission on Civil Rights (Commission) and the Federal Advisory Committee Act that the Tennessee Advisory Committee (Committee) will hold a meeting on Tuesday, April 14, 2015, at 12:00 p.m. CST for the purpose of discussing and voting on proposal topics to USCCR.

Members of the public can listen to the discussion. This meeting is available to the public through the following toll-free call-in number: 888-428-9480, conference ID: 8778628. Any interested member of the public may call this number and listen to the meeting. The conference call operator will ask callers to identify themselves, the organization they are affiliated with (if any), and an email address prior to placing callers into the conference room. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Member of the public are also entitled to submit written comments; the comments must be received in the regional office by May 14, 2015. Written comments may be mailed to the Southern Regional Office, U.S. Commission on Civil Rights, 61 Forsyth St., Suite 16T126, Atlanta, GA 30303. They may also be faxed to the Commission at (4042) 562-7005, or emailed to jhinton@usccr.gov. Persons who desire additional information may contact the Southern Regional Office at (404) 562-7000.

Records generated from this meeting may be inspected and reproduced at the Southern Regional Office, as they become available, both before and after the meeting. Records of the meeting will be available via www.facadatabase.gov under the Commission on Civil Rights, Tennessee Advisory Committee link. Persons interested in the work of this Committee are directed to the Commission's Web site, http://www.usccr.gov, or may contact the Southern Regional Office at the above email or street address.

Agenda

Welcome and Introductions

12:00 p.m. to 12:10 p.m., Diane DiIanni, Chair

Open Discussion

12:15 p.m. to 1:00 p.m.

Adjournment

1:00 p.m.

DATES: The meeting will be held on Tuesday, April 14, 2015, at 12:00 p.m.

Public Call Information: Dial: 888-428-9480, Conference ID: 8778628

Exceptional Circumstance: Pursuant to 41 CFR 102-3.150, the notice for this meeting is given less than 15 calendar days prior to the meeting because of the exceptional circumstances of technical difficulties occurring in the process of having the meeting notice signed and sent to the Federal Register.

Dated: March 30, 2015.
David Mussatt,
Chief, Regional Programs Unit.

[FR Doc. 2015-07650 Filed 4-2-15; 8:45 am]

BILLING CODE 6335-01-P